DEPARTMENT OF THE INTERIOR

Bureau of Land Management

[LLAZ920000.L51010000.FX0000.LVRWA20A3450]

Notice of Intent To Prepare an Environmental Impact Statement and Notice of Segregation for the Proposed Jove Solar Project, La Paz County, AZ

AGENCY: Bureau of Land Management, Interior.

ACTION: Notice of intent and segregation.

SUMMARY: In compliance with the National Environmental Policy Act of 1969, as amended (NEPA), and the Federal Land Policy and Management Act of 1976, as amended (FLPMA), the Bureau of Land Management (BLM) Yuma Field Office, Yuma, Arizona, intends to prepare an Environmental Impact Statement (EIS) to consider the effects of the Jove Solar Project (Jove Solar), an up to 600-megawatt (MW) solar photovoltaic (PV) project and battery storage system proposed on 3,495 acres of BLM-administered land in La Paz County, Arizona, and by this notice is announcing the beginning of the scoping process to solicit public comments and identify issues. The BLM also announces the segregation of the 3,495 acres of public lands from appropriation under the public land laws, including the Mining Law, but not the Mineral Leasing or Materials Acts, for a period of 2 years from the date of publication of this notice, subject to valid existing rights. This segregation will facilitate the orderly administration of the public lands while the BLM considers potential solar development on the described parcel.

DATES: This notice initiates the public-scoping process for the EIS. The BLM requests that the public submit comments concerning the scope of the analysis, potential alternatives, and identification of relevant information, and studies by January 6, 2023. To afford the BLM the opportunity to consider comments in the Draft EIS, please ensure your comments are received prior to the close of the 30-day scoping period or 15 days after the last public meeting, whichever is later. The BLM will hold one virtual, and one in-person scoping meeting, 2 to 3 weeks after publication of this notice. Meeting details will be posted on the project website at least 15 days prior to the meetings. The segregation for the public lands identified in this notice takes effect on December 7, 2022.

ADDRESSES: You may submit comments related to Jove Solar by any of the following methods:

• Website: https://go.usa.gov/xtGtR.

• Email: BLM_AZ_CRD_SOLAR@blm.gov.

• Fax: 928-317-3250.

• Mail: BLM Yuma Field Office, Attention: Jove Solar Project, 7341 East 30th Street, Yuma, AZ 85365.

Documents pertinent to this proposal may be examined online at the project ePlanning website: https://go.usa.gov/xtGtR and at the Yuma Field Office.

FOR FURTHER INFORMATION CONTACT: Erica Stewart, Project Manager, telephone: (928) 317-3295; email: estewart@blm.gov; or at the Yuma Field Office. Individuals in the United States who are deaf, blind, hard of hearing, or have a speech disability may dial 711 (TTY, TDD, or TeleBraille) to access telecommunications relay services for contacting Ms. Stewart. Individuals outside the United States should use the relay services offered within their country to make international calls to the point-of-contact in the United States.

SUPPLEMENTARY INFORMATION:

Purpose and Need for the Proposed Action

The BLM's purpose and need for action is to respond to the Applicant's application under Title V of FLPMA (43 U.S.C 1761(a)(4)) for a right-of-way (ROW) grant for Jove Solar.

Preliminary Proposed Action and Alternatives

The Proposed Action is to construct, operate, maintain, and decommission a solar PV facility and battery storage system on 3,495 acres of BLM-administered land in La Paz County, Arizona. The Jove Solar proposal includes PV modules, battery energy storage facilities, substations, electrical collector and connection lines, switch yards, monitoring and maintenance facilities, access roads, and temporary use areas. The Project may have a generating capacity of up to 600 megawatt alternating current (MWac) net capacity. The Project would connect into the authorized Ten West Link 500-kilovolt transmission line.

The Project is considering alternative PV module designs that would trade longer rows with a shorter height of single panel modules for shorter rows of taller dual panel modules.

The EIS will also evaluate the No Action Alternative. Under the No Action Alternative, the BLM would deny the application and the lands would remain open to multiple use and sustained yield as provided for in the Yuma Field Office Resource Management Plan (BLM 2008). The BLM welcomes comments on all preliminary alternatives as well as suggestions for additional alternatives.

Summary of Expected Impacts

Anticipated impacts on BLM-managed lands include approximately 3,495 acres of ground disturbance for the solar facility, battery storage systems, transmission lines, project buildings, construction laydown areas, and access roads. Impacts may include reduction in authorized grazing; vegetation removal; recreation, access, and land use changes; wildlife and migratory bird impacts including habitat loss and potential direct mortalities during construction; visual impacts including glint and glare and an increase in nighttime brightness; potential impacts to cultural resources and Native American concerns; socioeconomic impacts—both positive and adverse. Known resources to be addressed in the analysis include, but are not limited to: air quality, visual resources, environmental justice, social and economic values, land uses, Native American religious concerns, recreation, range, cultural, wildlife, migratory birds, threatened, endangered and sensitive species, soils, invasive species, and paleontology. The impact analysis will also consider the cumulative impacts to natural and cultural resources from reasonably foreseeable projects in the area.

Anticipated Permits and Authorizations

In addition to the requested ROW grant, other Federal, State, and local authorizations will be required for Jove Solar. These may include authorizations determined through consultation under the Endangered Species Act (ESA) (16 U.S.C. 1536), Clean Water Act (CWA) (33 U.S.C. 1251), and other laws and regulations determined to be applicable to Jove Solar.

Schedule for the Decision-Making Process

The BLM will provide additional opportunities for public participation consistent with the NEPA process, including a 45-day comment period on the Draft EIS. The Draft EIS is anticipated to be available for public review in Summer 2023, the Final EIS is anticipated to be released in early 2024, with a Record of Decision expected in Spring 2024.

Public Scoping Process

This notice of intent initiates the scoping period. The BLM will hold one virtual and one in-person scoping meeting. The meeting dates, times, location, and information on how to attend will be announced at least 15 days in advance on the project ePlanning website at https://go.usa.gov/xtGtR. Project information and documents will also be posted on that website. Persons needing assistance (assistive technology, translators, or other assistance) should contact Project Manager Erica Stewart at the address provided above.

Segregation

Regulations found at 43 CFR 2804.25(f) allow the BLM to segregate public lands for potential rights-of-way for solar energy development from the operation of the public land laws, including the Mining Law, by publication of a Federal Register notice. The BLM uses this authority to preserve its ability to approve, approve with modifications, or deny proposed rights-of-way, and to facilitate the orderly administration of the public lands. This segregation is subject to valid existing rights, including existing mining claims located before this segregation notice. Licenses, permits, cooperative agreements, or discretionary land use authorizations of a temporary nature which would not impact lands identified in this notice may be allowed with the approval of a BLM authorized officer during the segregation period. As provided in the regulations, the segregation of lands in this notice will not exceed 2 years from the date of publication unless extended for up to an additional 2 years through publication of a new notice in the Federal Register. The segregation period will terminate and the land will automatically reopen to appropriation under the public land laws, including the mining law at the earliest of the following dates: upon issuance of a decision by the authorized officer granting, granting with modifications, or denying the application for a right-of-way; without further administrative action at the end of the segregation provided for in the Federal Register notice initiating the segregation; or upon publication of a Federal Register notice terminating the segregation. Upon termination of the segregation of these lands, all lands subject to this segregation would automatically reopen to appropriation under the public land laws, including the mining law.

Legal Description for Parcel: The subject lands for the proposed solar facility are legally described as follows—

Gila and Salt River Meridian, Arizona

T. 2 N., R. 12 W.,

Secs. 3 thru 6, partly unsurveyed.

T. 2 N., R. 13 W.,

Secs. 1 and 2, partly unsurveyed.

T. 3 N., R. 12 W.,

Sec. 32.

T. 3 N., R. 13 W.,

Sec. 34, NE¼, E½NW¼, E½SW¼, and SE¼;

Sec. 35;

Sec. 36, N½, SW¼, and W½SE¼.

Lead and Cooperating Agencies

The BLM Yuma Field Office is the lead agency for this EIS. The following agencies have been invited to participate in the environmental analysis of the Project as Cooperating Agencies under a Memorandum of Understanding to Improve Public Land Renewable Energy Project Permit Coordination: United States Fish and Wildlife Service, Bureau of Reclamation, United States Department of Defense, United States Department of Energy, and United States Environmental Protection Agency. Various State and local agencies, including Arizona Game and Fish Department, Arizona State Land Department, and La Paz County, AZ have been invited to participate in the environmental analysis due to their special expertise on resources and issues to be analyzed.

Responsible Official

The Authorized Officer and Decision Maker for the project is the BLM Yuma Field Office Manager.

Nature of Decision To Be Made

In accordance with the BLM's multiple use and sustained yield mandates, the BLM will decide whether to approve, approve with modification(s), or deny issuance of a ROW grant to the Applicant for the proposed Project.

Additional Information

The BLM will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation; and may be considered at multiple scales, including the landscape scale.

The BLM will utilize and coordinate the NEPA process to help support compliance with applicable procedural requirements under the Endangered Species Act (16 U.S.C. 1536) and Section 106 of the National Historic Preservation Act (NHPA) (54 U.S.C. 306108) as provided in 36 CFR 800.2(d)(3), including public involvement requirements of Section 106. The information about historic and cultural resources and threatened and endangered species within the area potentially affected by the proposed plan will assist the BLM in identifying and evaluating impacts to such resources.

The BLM will consult with Indian Tribal Nations on a government-to-government basis in accordance with Executive Order 13175, BLM MS 1780, and other Departmental policies. Tribal concerns, including impacts on Indian trust assets and potential impacts to cultural resources, will be given due consideration. Federal, State, and local agencies, along with Indian Tribal Nations and other stakeholders that may be interested in or affected by the proposed project that the BLM is evaluating, are invited to participate in the scoping process and, if eligible, may request or be requested by the BLM to participate in the development of the environmental analysis as a cooperating agency. The BLM intends to hold a series of government-to-government consultation meetings. The BLM will send invitations to potentially affected Tribal Nations prior to the meetings. The BLM will provide additional opportunities for government-to-government consultation during the NEPA process.

Before including your address, phone number, email address, or other personal identifying information in your comment, you should be aware that your entire comment—including your personal identifying information—may be made publicly available at any time. While you can ask us in your comment to withhold your personal identifying information from public review, we cannot guarantee that we will be able to do so.

(Authority: 40 CFR 1501.7).

Raymond Suazo,
Arizona State Director.

[FR Doc. 2022-26589 Filed 12-6-22; 8:45 am]

BILLING CODE 4310-32-P